DEPARTMENT OF JUSTICE

Notice of Lodging of Proposed Consent Decree Under the Clean Water Act

On September 7, 2018, the Department of Justice lodged a proposed partial consent decree with the United States District Court for the District of Hawaii in United States of America v. Azure Fishery LLC et al., Civil Action No. 1:18-cv-00339.

The complaint in this Clean Water Act (“CWA”) case was filed against the defendants on the same day as the lodging of the consent decree. The complaint alleges claims against the Hawaii-based longline fishing companies Azure Fishery LLC and Linh Fishery LLC and individuals Hanh Nguyen, Khang Dang, Andy Hoang, and Tuan Hoang. The complaint addresses illegal discharges of oil from the commercial longline fishing vessel Jaxon T, now known as the St. Joseph, as well as related violations of the Coast Guard's pollution control regulations, including failure to provide sufficient capacity to retain oily bilge waste on board the vessel. The complaint alleges that Azure Fishery LLC, company members and managers Hanh Nguyen and Khang Dang, and vessel operator Andy Hoang are each liable for civil penalties stemming from violations of the CWA, 33 U.S.C. 1321. The United States seeks injunctive relief from these same defendants and Linh Fishery LLC, which is the current owner of the vessel. The complaint also includes a claim under the Federal Debt Collection Procedures Act, 28 U.S.C. 3001 et seq., against Linh Fishery LLC, Hanh Nguyen, Khang Dang, and Tuan Hoang concerning the fraudulent conveyance of the Jaxon T after the Coast Guard discovered the violations.

Under the proposed partial consent decree, defendants Nguyen and Dang will pay a total of $475,000. Under the terms of the CWA, the penalties paid for these violations will be deposited in the federal Oil Spill Liability Trust Fund managed by the National Pollution Funds Center. In addition, the settling defendants will perform corrective measures to remedy the violations and prevent future violations in their fleet of twenty-five longline fishing vessels. Required actions include: (1) Making repairs to vessels to reduce the quantity of oily waste generated during fishing voyages; (2) providing crewmembers with training on the proper handling of oily wastes; (3) documenting proper oily waste management and disposal after returning to port; and (4) submitting compliance reports to the Coast Guard and to the Department of Justice.

The publication of this notice opens a period for public comment on the proposed consent decree. Comments should be addressed to the Assistant Attorney General, Environment and Natural Resources Division, and should refer to United States of America v. Azure Fishery LLC et al., D.J. Ref. No. 90-5-1-1-11849. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $14.25 (25 cents per page reproduction cost) payable to the United States Treasury.

Henry Friedman,
Assistant Section Chief, Environmental Enforcement Section, Environment and Natural Resources Division.

[FR Doc. 2018-19969 Filed 9-13-18; 8:45 am]

BILLING CODE 4410-15-P